DEPARTMENT OF THE INTERIOR

National Park Service

[NPS-ROMO-1201-8979; 1526-0002-630]

Grand Ditch Breach Restoration Draft Environmental Impact Statement, Rocky Mountain National Park, CO

AGENCY: National Park Service, Department of the Interior.

ACTION: Notice of Availability of the Draft Environmental Impact Statement for the Grand Ditch Breach Restoration, Rocky Mountain National Park.

SUMMARY: Pursuant to the National Environmental Policy Act of 1969, 42 U.S.C. 4332(2)(C), the National Park Service announces the availability of a Draft Environmental Impact Statement for the Grand Ditch Breach Restoration, Rocky Mountain National Park, Colorado. The purpose of this environmental impact statement is to guide management actions in the park to restore the hydrological processes, ecological services, and wilderness character of the area in the Upper Kawuneeche Valley impacted by the 2003 Grand Ditch breach. The National Park Service is obligated by law and policy to maintain and restore, to the extent possible, the natural conditions and processes in park units (NPS Management Policies 2006, section 4.1.5). The following objectives for restoring the area impacted by the 2003 Grand Ditch breach are identified in the environmental impact statement: restore appropriate stream and groundwater processes, restore appropriate native plant communities, restore the stability of the hillside below the breach site, restore wilderness character, restore wildlife habitat, restore aquatic habitat, and restore water quality in the affected area and downstream. Five alternatives are being considered: Alternative A, “the no action alternative,” would continue current management activities within the impacted area, following existing management policies and NPS guidance. Alternative B, minimal restoration, would emphasize less intensive management activity to restore portions of the impacted area. This alternative would focus actions on areas that are unstable and present a high potential of continued degradation of existing ecosystem resources and services. Management activities would be conducted using hand tools to reduce impact on wilderness character. This alternative would include stabilization of zone 1A, the road-cut hillside immediately below the Grand Ditch, under one of two stabilization options. Alternative C, high restoration, would involve more intensive management actions over large portions of the impacted area. This alternative would focus actions on unstable areas that present a high to moderate potential of continued degradation of existing ecosystem resources and services. Restoration methods would be used to stabilize banks, slopes, and disturbed areas; to improve channel stability in portions of Lulu Creek and the Colorado River; and to reduce sediment transport over a larger portion of the project area. This alternative would involve the use of heavy equipment and possibly reusing excavated debris for restoration and stabilization actions both within and between zones. This alternative would include stabilization of zone 1A under one of two stabilization options. Alternative D, the preferred alternative, would emphasize the removal of large debris deposits in the alluvial fan area and in the Lulu City wetland. Actions would be conducted to stabilize limited areas of unstable slopes and banks throughout the upper portions of the restoration area. Hydrology through the Lulu City wetland would be restored in the historical central channel through removal of large deposits of debris, relying on the historical channel to transport river flow. Small-scale motorized equipment would be employed for stabilization and revegetation activities, while larger equipment would be employed for excavation of large debris deposits and reconfiguration of the Colorado River through the Lulu City wetland. This alternative would include stabilization of zone 1A under the preferred option, option 1. Alternative E, maximum restoration, would involve extensive management activity and use of motorized equipment over large portions of the impacted area to restore the damage. Engineered solutions would be used to stabilize banks and slopes to approximate pre-breach contours and to reduce transport of sediments over a larger portion of the impacted area. Extensive changes would be made to the Colorado River channel to route the river to its historical alignment through the center of the Lulu City wetland. To facilitate movement of heavy mechanized equipment and excavated debris from the wetland to upland disposal areas, a temporary haul road would be constructed. This alternative would include stabilization of zone 1A under one of two stabilization options. All action alternatives would have substantial beneficial impacts to wilderness character; surface and groundwater hydrology; stream channel, floodplain and wetland morphology and function; water quality; riparian and wetland communities; aquatic habitat; visitor experience; and long-term resource productivity.

DATES: The National Park Service will accept comments on the Draft Environmental Impact Statement from the public for 60 days after the date the Environmental Protection Agency publishes this Notice of Availability. No public meetings are scheduled at this time.

ADDRESSES: Information will be available for public review and comment online at http://parkplanning.nps.gov/romo, in the office of the Superintendent, Vaughn Baker, 1000 US Highway 36 Estes Park, CO 80517-8397, 970-586-1200 and from the Public Information Office, Rocky Mountain National Park, 1000 US Highway 36, Estes Park, Colorado 80517-8397.

FOR FURTHER INFORMATION CONTACT: Public Information Office, Rocky Mountain National Park, 1000 US Highway 36, Estes Park, Colorado 80517-8397, (970) 586-1206, romo_information@nps.gov.

SUPPLEMENTARY INFORMATION: If you wish to comment on any other issues associated with the Grand Ditch Breach Restoration EIS, you may submit your comments by any one of several methods. You may mail comments to: Superintendent, Rocky Mountain National Park, Estes Park, CO 80517-8397. You may also comment via the Internet at http://parkplanning.nps.gov/romo. You can email comments to romo_superintendent@nps.gov. Finally, you may hand-deliver comments to: Rocky Mountain National Park Headquarters, 1000 US Highway 36, Estes Park, Colorado 80517-8397 or to Kawuneeche Visitor Center, Rocky Mountain National Park, 16018 Highway 34, Grand Lake, CO 80447. Before including your address, phone number, email address, or other personal identifying information in your comment, you should be aware that your entire comment—including your personal identifying information—may be made publicly available at any time. While you can ask us in your comment to withhold your personal identifying information from public review, we cannot guarantee that we will be able to do so.

Dated: November 23, 2011.
John Wessels,
Director, Intermountain Region.

[FR Doc. 2012-5696 Filed 3-8-12; 8:45 am]

BILLING CODE 4310-D8-P